DEPARTMENT OF AGRICULTURE

Forest Service

Olympic Provincial Interagency Executive Committee (PIEC) Advisory Committee

AGENCY: Forest Service, USDA.

ACTION: Notice of meeting.

SUMMARY: The Olympic PIEC Advisory Committee will meet on November 17, 2000. The meeting will be held at the Olympic National Forest Headquarters office at 1835 Black Lake Blvd., Olympia, Washington. The meeting will begin at 9:00 AM and end at approximately 3:30 PM.

Agenda topics are: (1) Welcome and introduction of new committee members and brief Forest update; (2) Sol Duc Adaptive Management Area Process; (3) Road Management Strategy Update; (4) Northwest Forest Plan Monitoring Report; (5) Olympic Province Advisory Committee work plan and goals; (6) Open forum; and (7) Public comments.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: October 17, 2000.
Kenneth C. Eldredge,
Acting Forest Supervisor, Olympic National Forest.

[FR Doc. 00-27518 Filed 10-26-00; 8:45 am]

BILLING CODE 3410-11-M